COMMISSION ON CIVIL RIGHTS

Sunshine Act Notice

AGENCY: Commission on Civil Rights.

date and time: Friday, September 17, 2004, 9:30 a.m.

place: U.S. Commission on Civil Rights, 624 9th Street, NW., Room 540, Washington, DC 20425.

status:

Agenda

I. Approval of Agenda

II. Approval of Minutes of July 16, 2004 Meeting

III. Announcements

IV. Staff Director's Report

V. FY 2006 Budget Estimate to OMB

VI. State Advisory Committee Appointments for Alaska, Colorado, Nevada, Ohio, South Dakota, and Utah

VII. “Broken Promises: Evaluating the Native American Health Care System” Report

VIII. “Toward Equal Access: Eliminating Language Barriers from Federal Programs” Report

IX. “Funding Federal Civil Rights Enforcement: 2005” Report

X. Future Agenda Items

11 a.m.—Briefing on Voting and Election Reform—Is America Ready to Vote?: Voting Barriers, Provisional & Absentee Ballots, and Voter Enfranchisement

for further information contact: Les Jin, Press and Communications (202) 376-7700.

Debra A. Carr,
Deputy General Counsel.

[FR Doc. 04-20637 Filed 9-8-04; 4:15 am]

BILLING CODE 6335-01-M